SMALL BUSINESS ADMINISTRATION

Small Business Size Standards: Waiver of the Nonmanufacturer Rule

AGENCY: U.S. Small Business Administration.

ACTION: Notice of Periodic Review of Approved Class Waivers from the Nonmanufacturer Rule for Products in Effect as of March 17, 2009.

SUMMARY: The U. S. Small Business Administration (SBA) conducted a periodic review of approved class waivers from the Nonmanufacturer Rule for products in effect as of March 17, 2009. The purpose of the notice was to determine if there were any small business manufacturers or processors for the products listed on the list of approved class waivers. The basis for a waiver is that no small business manufacturers are supplying these classes of products to the Federal government. The effect of a waiver would be to allow otherwise qualified small businesses to supply the products of any manufacturer on a Federal contract set aside for small businesses, service-disabled veteran-owned small businesses or participants in SBA's 8(a) Business Development (BD) Program.

DATES: This waiver is effective June 30, 2009.

FOR FURTHER INFORMATION CONTACT: Edith G. Butler, Program Analyst, by telephone at (202) 619-0422; by FAX at (202) 481-1788; or by e-mail at Edith.Butler@sba.gov.

SUPPLEMENTARY INFORMATION: Section 8(a)(17) of the Small Business Act (Act), 15 U.S.C. 637(a)(17), requires that recipients of Federal contracts set aside for small businesses or Participants in SBA's 8(a) BD Program provide the product of a small business manufacturer or processor, if the recipient is other than the actual manufacturer or processor of the product. SBA's regulations provided the same for procurements set aside for service-disabled veteran-owned small business concerns 13 CFR 125.15. This requirement is commonly referred to as the Nonmanufacturer Rule. See 13 CFR 121.406(b). Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal government within the last 24 months. 13 CFR 1202(c). The SBA defines “class of products” based on the Office of Management and Budget's North American Industry Classification System (NAICS), and product service codes.

The following are products listed on SBA's list of Approved Class Waivers in Effect as of March 17, 2009.

U.S. Small Business Administration Office of Government Contracting Nonmanufacturer Rule
[Class Waiver in Effect as of March 17, 2009]
Product service code | Date in Federal Register | NAICS | Product
210 | 3/21/2008 | 335999 | All Other Miscellaneous Electrical Equipment and Component Manufacturing (Indoor and Outdoor Electrical Lighting Fixtures).
1395 | 7/2/2002 | 332995 | AMMUNITION/OTHER ORDNANCES.
2310 | 7/15/1998 | 336111 | AUTOMOBILE MOTOR VEHICLES, MOTOR TRUCKS.
2320 | 1/24/1992 | 333924 | TRUCKS, FOUR WHEEL DRIVE UTILITY.
2330 | 12/5/2008 | 333924 | Trailers and Heavy Truck Tractors.
2420 | 2/24/1992 | 333111 | TRACTOR, WHEELED.
2620 | 5/18/1992 | 326211 | TIRE, AIRCRAFT, PNEUMATIC.
2835 | 7/15/1998 | 333611 | TURBINES.
3110 | 4/16/2001 | 332991 | AEROSPACE BALL AND ROLLER BEARINGS, CONSISTING OF, BUT NOT LIMITED TO, ANNULAR BALL BEARINGS, CYLINDRICAL BALL BEARINGS, LINEAR BALL BEARINGS, LINEAR ROLLER BEARINGS, NEEDLE ROLLER BEARINGS, BALL OR ROLLER BEARING RACES, ROLLER BEARINGS, TAPERED ROLLER BEARINGS AND THRUST ROLLER BEARINGS.
3130 | 9/27/2002 | 332991 | BEARINGS, MOUNTED.
3610 | 7/27/1994 | 333315 | COPIER/DUPLICATING MACHINES.
3805 | 12/28/1989 | 333120 | CONSTRUCTION, BACKHOE.
3805 | 5/15/1991 | 333120/333131 | SHOVEL LOADERS, SCRAPER LOADERS.
3805 | 12/28/1991 | 333120 | CONSTRUCTION, ROAD GRADER.
3805 | 12/28/1989 | 333120 | CONSTRUCTION, SCRAPERS.
3805 | 5/15/1991 | 333131 | CONSTRUCTION, DRILL RIGS.
3810 | 10/2/1991 | 333120 | CONSTRUCTION, CRANE OVER 15 TON.
3825 | 9/13/1990 | 333120 | SWEEPERS, STREET.
4710 | 5/15/1991 | 331491 | PIPE & TUBING HIGH NICKEL ALLOY.
5805 | 7/5/1991 | 334210 | COMMUNICATION, DIGITAL EPBX EQUIP.
5805 | 2/12/1997 | 334210 | ROUTERS AND SWITCHES.
5805 | 7/20/1998 | 334210 | TELEGRAPH APPARATUS.
5805 | 7/20/1998 | 334220 | CELLULAR HANDSETS AND TELEPHONES.
5805 | 7/20/1998 | 334220 | RADIO TELEPHONE.
5820 | 7/8/2008 | 334220 | TELEVISIONS.
5821 | 2/12/1997 | 334511 | AIRBORNE INTEGRATED COMPONENTS.
5836 | 2/8/1993 | 334310 | VIDEO CASSETTE RECORDER.
5836 | 1/28/1997 | 333315 | 8 MM TRI-DECK AIRBORNE RECORDER.
5920 | 5/5/1997 | 335931 | SURGE ARRESTERS.
5925 | 5/5/1997 | 335313 | POWER CIRCUIT BREAKERS.
5950 | 5/5/1997 | 335311 | CURRENT AND POTENTIAL TRANSFORMER AUTOTRANS—FORMER.
5805 | 7/20/1998 | 334416 | TOWERS.
5999 | 11/2/2004 | 335999 | MISCELLANEOUS ELECTRICAL EQUIPMENT AND COMPONENTS MANUFACTURING.
6015 | 6/13/2003 | 334417/335921 | OVERHEAD FIBER OPTIC GROUNDWIRE & ANCILLARY HARDWARE COMPONENTS .
6135 | 2/24/1992 | 335911 | STORAGE BATTERIES .
6145 | 12/5/2008 | 335931 | Control Cable and Conductors.
6145 | 12/5/2008 | 335932 | Line Hardware (insulator Strings).
6525 | 12/20/2007 | 334510 | Electromedical and Electrotherapeutic Apparatus Manufacturing.
6525 | 12/26/2007 | 334517 | Irradiation Apparatus Manufacturing.
6525 | 12/20/2007 | 334510 | Electromedical/Electrotherapeutic Apparatus Manufacturing (Diagnostic equipment, MRI (magnetic resonance imaging), manufacturing; Magnetic resonance imaging (MRI) medical diagnostic equipment manufacturing; Medical ultrasound equipment manufacturing; MRI (magnetic resonance imaging) medical diagnostic equipment manufacturing; Patient monitoring equipment (e.g., intensive care coronary care unit) manufacturing; PET (positron emission equipment tomography) scanners manufacturing; and Positron emission tomography (PET) scanners manufacturing).
6525 | 12/26/2007 | 334517 | Irradiation Apparatus Manufacturing (X-Ray Equipment/Supplies).
6525 | 01/29/2008 | 334517 | Irradiation Apparatus Manufacturing (Computerized axial tomography (CT/CAT) scanners manufacturing; CT/CAT (computerized axial tomography) scanners manufacturing; Fluoroscopes manufacturing; Fluoroscopic X-ray apparatus and tubes manufacturing; Generators, X-ray, manufacturing; Irradiation equipment manufacturing; X-ray generators manufacturing; and X-ray irradiation equipment manufacturing).
6240 | 01/28/2008 | 335999 | All Other Miscellaneous Electrical Equipment/Component Manufacturing (Fluorescent Lamps, Incandescent Lamps, etc.).
6250 | 01/28/2008 | 335999 | All Other Miscellaneous Electrical Equipment/Component Manufacturing (Electric Lamp Starters/Lamp Holders, etc.).
6770 | 11/15/2005 | 325992 | Photo-film, paper, plate & Chem. Manufacturing.
6810 | 04/27/2006 | 324110 | REFINERY GASES MADE IN PETROLEUM REFINERIES.
6810 | 04/27/2006 | 332420 | CRYOGENIC TANK, HEAVY GAUGE METAL, MANUFACTURING.
6810 | 04/27/2006 | 332420 | LIQUID OXYGEN TANKS MANUFACTURING.
6810 | 04/27/2006 | 332420 | LIQUEFIED PETROLEUM GAS (LPG) CYLINDERS MANUFACTURING.
6810 | 04/27/2006 | 332420 | BULK STORAGE TANKS, HEAVY GAUGE METAL, MANUFACTURING.
6810 | 04/27/2006 | 332420 | GAS STORAGE TANKS, HEAVY GAUGE METAL MANUFACTURING.
6810 | 04/27/2006 | 332420 | CYLINDERS, PRESSURE, HEAVY GAUGE METAL, MANUFACTURING.
6810 | 04/27/2006 | 325120 | INDUSTRIAL GASES MANUFACTURING.
6810 | 5/15/1991 | 325181 | CAUSTIC SODA.
6810 | 5/15/1991 | 325181 | SODA ASH.
6810 | 2/24/1992 | 325181 | SODIUM HYDROXIDE.
6810 | 2/24/1992 | 325188 | ACID, BORIC.
6810 | 4/24/1992 | 325188 | ACID, ENRICHED BORIC.
6810 | 5/15/1991 | 325188 | ACID, HYDROCHLORIC.
6810 | 2/24/1992 | 325188 | ACID, HYDROFLUORIC.
6810 | 2/24/1992 | 325188 | CALCIUM NITRATE (UNCOATED).
6810 | 5/15/1991 | 325110 | HEPTANE HPCL.
6810 | 2/24/1992 | 325188 | N-DODECANE.
6810 | 5/15/1991 | 325199 | ETHYL ACETATE.
6810 | 5/15/1991 | 325110 | BENZENE.
6810 | 5/15/1991 | 325110 | TOLUENE.
6810 | 5/15/1991 | 325191/325199 | ACETATE NATURAL SYNTHETIC.
6810 | 5/15/1991 | 325311 | AMMONIUM SULFATE.
6810 | 5/15/1991 | 325199 | METHYL ISOBUTYL KETONE.
6810 | 5/15/1991 | 325191/325199 | ACETONE.
6810 | 2/24/1992 | 325199 | METHYLENE CHLORIDE.
6810 | 5/15/1991 | 325199 | NN-DIMETHYL FORMAMIDE.
6810 | 5/15/1991 | 325199 | PROPYLENE GLYCOL.
6810 | 5/15/1991 | 325199 | METHANOL.
6810 | 5/15/1991 | 325311 | NITRIC ACID.
6810 | 10/21/1996 | 325199 | PURIFIED TEREPHATHALIC ACID GROUND.
6810 | 5/15/1991 | 325199 | PTAU.
6810 | 5/15/1991 | 325199 | TRICHLORETHANE.
6810 | 5/15/1991 | 325311 | AMMONIUM SULFATE.
6810 | 2/24/1992 | 324110 | HYDROCARBON DILUENT.
7021 | 8/28/1991 | 334111 | MAINFRAME COMPUTERS AND PERIPHERALS.*
7025 | 8/8/1991 | 334119 | COMPUTER LASER PRINTER.
7110 | 6/27/2006 | 337215 | Furniture Frames and Parts, Metal Manufacturing.
7110 | 6/27/2006 | 337215 | Furniture, Frames, Wood, Manufacturing.
7110 | 6/27/2006 | 337215 | Furniture Parts, Finished Metal Manufacturing.
7110 | 6/27/2006 | 337215 | Furniture Parts, Finished Plastics, Manufacturing.
7110 | 6/27/2006 | 337127 | Furniture, Factory-type (e.g., cabinets, stools, tool stands, work benches) Manufacturing.
7195 | 6/27/2006 | 339111 | Furniture, hospital (e.g., hospital beds, operating room furniture), Manufacturing.
7195 | 6/27/2006 | 339111 | Furniture, Laboratory-type (e.g., benches, cabinets, stools, tables) Manufacturing.
7220 | 1/15/1991 | 314110 | CARPET TILE.
7220 | 5/15/1991 | 314110 | CARPET, WOVEN, 6-FT VINYL BACK BROADLOOM.
7220 | 1/15/1991 | 314110 | CARPET, 6 FT VINYL BACK BROADLOOM.
7220 | 5/15/1991 | 326192 | TILE AND ROLL, VINYL SURFACE.
7290 | 11/15/2005 | 333415 | COMMERCIAL REFRIGERATOR EQUIPMENT.
7320 | 11/15/2005 | 335221 | HOUSEHOLD REFRIGERATOR EQUIPMENT.
7290 | 10/21/2005 | 333312 | COMMERCIAL LAUNDRY EQUIPMENT.
7320 | 10/21/2005 | 335522 | HOUSEHOLD REFRIGERATOR EQUIPMENT.
7320 | 10/21/2005 | 335221 | HOUSEHOLD COOKING EQUIPMENT.
7510 | 1/12/2006 | 335222, 339940, 325992, 322231, 339940 | OFFICE SUPPLIES, PAPER & TONER.
7610 | 8/3/1990 | 323117 | THESAURUSES & DICTIONARIES.
7730 | 7/27/1994 | 334310 | DISC PLAYERS, COMPACT.
7730 | 7/27/1994 | 334310 | TELEVISION RECEIVING SETS.
8040 | 02/09/2005 | 325520 | ADHESIVES AND SEALANTS MANUFACTURING.
8905 | 10/2/1991 | 311711 | TUNA, CANNED.
8915 | 9/23/1991 | 311421 | APRICOTS, CANNED.
8915 | 10/2/1991 | 311421 | CITRUS SECTIONS, CANNED.
8915 | 10/2/1991 | 311421 | SPINACH, CANNED.
8915 | 9/23/1991 | 311421 | TOMATO PASTE, CANNED.
8925 | 10/2/1991 | 311312 | SUGAR, GRANULATED & BROWN.
9310 | 10/2/1991 | 322224 | PAPER BAGS (SMALL HARDWARE TYPE).
9510 | 5/15/1991 | 331491 | BARS & ROD, HIGH NICKEL ALLOY.
9515 | 5/15/1991 | 331491 | PLATE, SHEET, STRIP & FOIL; STAINLESS STEEL & HIGH NICKEL ALLOY.
9515 | 9/25/1990 | 331315 | PLATE, SHEET, STRIP, FOIL & WIRE; HIGH NICKEL ALLOY.
9520 | 5/15/1991 | 331111 | STAINLESS STEEL SHAPES.
9525 | 5/15/1991 | 331491 | WIRE, NONELECTRICAL HIGH NICKEL ALL0Y.
9530 | 5/15/1991 | 331491 | BARS & RODS, HIGH NICKEL ALLOY.
9530 | 8/23/1991 | 331491 | ALUMINUM.
9530 | 8/23/1991 | 331312 | NICKEL-COPPER NICKEL.
9535 | 6/8/2004 | 331315 | ALUMINUM, SHEET, PLATE AND FOIL MANUFACTURING.
9650 | 9/25/1990 | 331411 | COPPER & NICKEL CATHODES.
9650 | 9/25/1990 | 331411 | COPPER CATHODES.
9650 | 9/25/1990 | 331419 | NICKEL BRICKETTES.
9999 | 8/11/2004 | 333415 | ICE MAKING MACHINERY MANUFACTURING.
* This waiver covers only peripheral equipment when purchasing a mainfame computer (PSC 7021).

The SBA posted a notice in the Federal Register on March 26, 2009 and April 22, 2009 in the Federal Business Opportunities. SBA received five (5) responses from small business concerns. A review of the responses determined that there were no small business manufacturing sources for any of the products on the approved class waivers in effect as of March 17, 2009. Therefore, the list of approved class waivers for these products will remain in effect until such time of the discovery of small business manufacturing sources.

Dated: June 19, 2009.
James Gambardella,
Acting Director for Government Contracting.

[FR Doc. E9-14889 Filed 6-23-09; 8:45 am]

BILLING CODE 8025-01-P